DEPARTMENT OF TRANSPORTATION

Federal Aviation Administration

14 CFR Part 39

[Docket No. FAA-2022-1308; Project Identifier MCAI-2022-00532-T; Amendment 39-22377; AD 2023-05-08]

RIN 2120-AA64

Airworthiness Directives; Airbus Canada Limited Partnership (Type Certificate Previously Held by C Series Aircraft Limited Partnership (CSALP); Bombardier, Inc.) Airplanes

AGENCY: Federal Aviation Administration (FAA), Department of Transportation (DOT).

ACTION: Final rule.

SUMMARY: The FAA is superseding Airworthiness Directive (AD) 2021-04-05, which applied to certain Airbus Canada Limited Partnership Model BD-500-1A10 and BD-500-1A11 airplanes. AD 2021-04-05 required revising the existing maintenance or inspection program, as applicable, to incorporate new or more restrictive airworthiness limitations. This AD was prompted by a determination that new or more restrictive airworthiness limitations are necessary. This AD continues to require the actions in AD 2021-04-05 and requires revising the existing maintenance or inspection program, as applicable, to incorporate new or more restrictive airworthiness limitations. The FAA is issuing this AD to address the unsafe condition on these products.

DATES: This AD is effective May 12, 2023.

The Director of the Federal Register approved the incorporation by reference of a certain publication listed in this AD as of May 12, 2023.

The Director of the Federal Register approved the incorporation by reference of a certain other publication listed in this AD as of March 30, 2021 (86 FR 10799, February 23, 2021).

ADDRESSES:

AD Docket: You may examine the AD docket at regulations.gov under Docket No. FAA-2022-1308; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact Airbus Canada Limited Partnership, 13100 Henri-Fabre Boulevard, Mirabel, Québec J7N 3C6, Canada; telephone 450-476-7676; email a220_crc@abc.airbus; website a220world.airbus.com.

• You may view this service information at the FAA, Airworthiness Products Section, Operational Safety Branch, 2200 South 216th St., Des Moines, WA. For information on the availability of this material at the FAA, call 206-231-3195. It is also available at regulations.gov under Docket No. FAA-2022-1308.

FOR FURTHER INFORMATION CONTACT: Gabriel Kim, Aerospace Engineer, Airframe and Propulsion Section, FAA, New York ACO Branch, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 to supersede AD 2021-04-05, Amendment 39-21426 (86 FR 10799, February 23, 2021) (AD 2021-04-05). AD 2021-04-05 applied to certain Airbus Canada Limited Partnership Model BD-500-1A10 and BD-500-1A11 airplanes. AD 2021-04-05 required revising the existing maintenance or inspection program, as applicable, to incorporate new or more restrictive airworthiness limitations. The FAA issued AD 2021-04-05 to address reduced structural integrity of the airplane or reduced controllability of the airplane.

The NPRM published in the Federal Register on October 31, 2022 (87 FR 65538). The NPRM was prompted by AD CF-2022-18, dated April 14, 2022, issued by Transport Canada, which is the aviation authority for Canada (referred to after this as the MCAI). The MCAI states that the manufacturer has published a revision to the airworthiness limitations, which contains new or more restrictive requirements, and states that failure to comply with the instructions could result in an unsafe condition.

In the NPRM, the FAA proposed to continue to require the actions in AD 2021-04-05 and to require revising the existing maintenance or inspection program, as applicable, to incorporate new or more restrictive airworthiness limitations. The FAA is issuing this AD to address reduced structural integrity of the airplane or reduced controllability of the airplane.

You may examine the MCAI in the AD docket at regulations.gov under Docket No. FAA-2022-1308.

Discussion of Final Airworthiness Directive

Comments

The FAA received a comment from Air Line Pilots Association, International (ALPA), who supported the NPRM without change.

The FAA received additional comments from Delta Airlines (DAL). The following presents the comments received on the NPRM and the FAA's response to each comment.

Request To Require MCAI Instead of Service Information

DAL requested that the FAA require compliance with the MCAI instead of service information so that Issue 014.00 of the airworthiness limitations is required through incorporation by reference (IBR) of Transport Canada AD CF-2022-18. DAL noted that the type certificate data sheet (TCDS) for these airplane models (TCDS T00008NY) states that any document that is Transport Canada-approved or Transport Canada-approved through the Manufacturer's Design Approval Representative is accepted by the FAA and is considered FAA-approved. DAL added that Transport Canada has released AD CF-2022-58, dated October 12, 2022 (Transport Canada AD CF-2022-58), which mandates Issue 015.00 of Airbus Canada Limited Partnership A220 Airworthiness Limitations BD500-3AB48-11400-02. DAL further noted that Issue 016.00 of Airbus Canada Limited Partnership A220 Airworthiness Limitations BD500-3AB48-11400-02 is anticipated to be issued in December of 2022, with Issue 017.00 possibly being issued in June 2023.

The FAA disagrees with the request to revise the AD. The FAA acknowledges that not incorporating by reference the Transport Canada AD means that operators may not use later-approved revisions of the service information without obtaining an alternative method of compliance (AMOC). However, in this case, it was determined that the IBR the MCAI method would not be used due to the complexity of the AD and the FAA's decision to not mandate new certification maintenance requirements (CCMRs). Additionally, the FAA will review each new revision of Airbus Canada Limited Partnership A220 Airworthiness Limitations BD500-3AB48-11400-02, to determine if the FAA needs to issue an AD to require incorporating a new revision. The FAA acknowledges that Transport Canada AD CF-2022-58 mandates Issue 015.00 of Airbus Canada Limited Partnership A220 Airworthiness Limitations BD500-3AB48-11400-02. However, the FAA considers that delaying this action to require the incorporation of later airworthiness limitations would be inappropriate because an unsafe condition exists and the airworthiness limitations identified in this final rule address the identified unsafe service information that include new or more restrictive airworthiness limitations. The FAA has not changed this AD in this regard.

Request To Remove a Requirement

DAL requested the FAA add an exceptions paragraph to the proposed AD to no longer mandate the CCMR. DAL stated that since publication of AD 2021-04-05, it has had to request an AMOC with each subsequent revision of the airworthiness limitations document, and has not been allowed to incorporate the new CCMRs in later revisions of the airworthiness limitations document. DAL explained that each time it has requested an AMOC, the AMOC was delayed and time-limited approved, and in several cases nearly led to DAL grounding its fleet.

The FAA disagrees with removing the reference to the CCMR section of the AWLs. The FAA's understanding is that Transport Canada will not mandate CCMRs in the future. Since AD 2021-04-05 required the CCMRs specified in Airbus Canada Limited Partnership A220 Airworthiness Limitations BD500-3AB48-11400-02, Issue 011.00, dated June 18, 2020, the FAA has determined that those CCMRs can continue to be mandated, but newer revisions of the CCMRs cannot be mandated by the FAA.

However, equivalent airplane maintenance manual (AMM) tasks may be mandated in lieu of CCMRs in future rulemaking. The FAA has not changed this AD in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Related Service Information Under 1 CFR Part 51

The FAA reviewed Airbus Canada Limited Partnership A220 Airworthiness Limitations BD500-3AB48-11400-02, Issue 014.00, dated February 3, 2022. This service information describes airworthiness limitations for fuel tank systems, safe life limits, and certification maintenance requirements.

This AD also requires Airbus Canada Limited Partnership A220 Airworthiness Limitations, BD500-3AB48-11400-02, Issue 011.00, dated June 18, 2020, which the Director of the Federal Register approved for incorporation by reference as of March 30, 2021 (86 FR 10799, February 23, 2021).

This service information is reasonably available because the interested parties have access to it through their normal course of business or by the means identified in the ADDRESSES section.

Costs of Compliance

The FAA estimates that this AD affects 70 airplanes of U.S. registry. The FAA estimates the following costs to comply with this AD:

The FAA estimates the total cost per operator for the retained actions from AD 2021-04-05 to be $7,650 (90 work-hours × $85 per work-hour).

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-04-05, Amendment 39-21426 (86 FR 10799, February 23, 2021); and

b. Adding the following new AD:

2023-05-08 Airbus Canada Limited Partnership (Type Certificate Previously Held by C Series Aircraft Limited Partnership (CSALP); Bombardier, Inc.): Amendment 39-22377; Docket No. FAA-2022-1308; Project Identifier MCAI-2022-00532-T.

(a) Effective Date

This airworthiness directive (AD) is effective May 12, 2023.

(b) Affected ADs

This AD replaces AD 2021-04-05, Amendment 39-21426 (86 FR 10799, February 23, 2021) (AD 2021-04-05).

(c) Applicability

This AD applies to Airbus Canada Limited Partnership airplanes, certificated in any category, as identified in paragraphs (c)(1) and (2) of this AD.

(1) Model BD-500-1A10 airplanes, serial numbers 50001 and subsequent with an original airworthiness certificate or original export certificate of airworthiness issued on or before February 3, 2022.

(2) Model BD-500-1A11 airplanes, serial numbers 55001 and subsequent with an original airworthiness certificate or original export certificate of airworthiness issued on or before February 3, 2022.

(d) Subject

Air Transport Association (ATA) of America Code 05, Time Limits/Maintenance Checks.

(e) Reason

This AD was prompted by a determination that new or more restrictive airworthiness limitations are necessary. The FAA is issuing this AD to address reduced structural integrity of the airplane or reduced controllability of the airplane.

(f) Compliance

Comply with this AD within the compliance times specified, unless already done.

(g) Retained Revision of the Existing Maintenance or Inspection Program, With a New Terminating Action

This paragraph restates the requirements of paragraph (g) of AD 2021-04-05, with a new terminating action. For airplanes with an original airworthiness certificate or original export certificate of airworthiness issued on or before June 18, 2020: Within 90 days after March 30, 2021 (the effective date of AD 2021-04-05), revise the existing maintenance or inspection program, as applicable, to incorporate the information specified in Airbus Canada Limited Partnership A220 Airworthiness Limitations, BD500-3AB48-11400-02, Issue 011.00, dated June 18, 2020. The initial compliance time for doing the tasks is at the time specified in Airbus Canada Limited Partnership A220 Airworthiness Limitations, BD500-3AB48-11400-02, Issue 011.00, dated June 18, 2020, or within 90 days after March 30, 2021, whichever occurs later. Accomplishing the revision of the existing maintenance or inspection program required by paragraph (i) of this AD terminates the requirements of this paragraph for Sections 01, “Airworthiness limitations—Introduction;” 02, “Certification maintenance requirements—General;” 04, “ALI structural inspections—General;” 05, “Life limited parts (systems)—General;” 06, “Life limited parts (structures)—General;” 07, “Fuel system limitations—General;” 08, “Critical design configuration control limitations—General;” 09, “Power plant limitations—General;” 10, “Structural repair limitations—General;” and 11, “Limit of validity—General;” of Airbus Canada Limited Partnership A220 Airworthiness Limitations, BD500-3AB48-11400-02, Issue 011.00, dated June 18, 2020, only.

(h) Retained No Alternative Actions, Intervals, or Critical Design Configuration Control Limitations (CDCCLs), With a New Exception

This paragraph restates the requirements of paragraph (h) of AD 2021-04-05, with a new exception. Except as required by paragraph (i) of this AD, after the existing maintenance or inspection program has been revised as required by paragraph (g) of this AD, no alternative actions (e.g., inspections), intervals, or CDCCLs may be used unless the actions, intervals, and CDCCLs are approved as an alternative method of compliance (AMOC) in accordance with the procedures specified in paragraph (k)(1) of this AD.

(i) New Maintenance or Inspection Program Revision

Within 90 days after the effective date of this AD, revise the existing maintenance or inspection program, as applicable, to incorporate the information specified in Sections 01, “Airworthiness limitations—Introduction;” 02, “Certification maintenance requirements—General;” 04, “ALI structural inspections—General;” 05, “Life limited parts—General;” 06, “Fuel system limitations—General;” 07, “Critical design configuration control limitations—General;” 08, “Power plant limitations—General;” 09, “Structural repair limitations—General;” and 10, “Limit of validity—General;” of Airbus Canada Limited Partnership A220 Airworthiness Limitations, BD500-3AB48-11400-02, Issue 014.00, dated February 3, 2022. The initial compliance time for doing the tasks is at the time specified in Airbus Canada Limited Partnership A220 Airworthiness Limitations, BD500-3AB48-11400-02, Issue 014.00, dated February 3, 2022, or within 90 days after the effective date of this AD, whichever occurs later. Accomplishing the revision of the existing maintenance or inspection program required by this paragraph terminates the actions required by paragraph (g) of this AD for Sections 01, “Airworthiness limitations—Introduction;” 02, “Certification maintenance requirements—General;” 04, “ALI structural inspections—General;” 05, “Life limited parts (systems)—General;” 06, “Life limited parts (structures)—General;” 07, “Fuel system limitations—General;” 08, “Critical design configuration control limitations—General;” 09, “Power plant limitations—General;” 10, “Structural repair limitations—General;” and 11, “Limit of validity—General;” of Airbus Canada Limited Partnership A220 Airworthiness Limitations, BD500-3AB48-11400-02, Issue 011.00, dated June 18, 2020, only.

(j) New No Alternative Actions, Intervals, or CDCCLs

After the existing maintenance or inspection program has been revised as required by paragraph (i) of this AD, no alternative actions (e.g., inspections), intervals, or CDCCLs may be used unless the actions, intervals, and CDCCLs are approved as an AMOC in accordance with the procedures specified in paragraph (k)(1) of this AD.

(k) Additional AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; telephone 516-228-7300. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada; or Airbus Canada Limited Partnership's Transport Canada Design Approval Organization (DAO). If approved by the DAO, the approval must include the DAO-authorized signature.

(l) Additional Information

(1) Refer to Transport Canada AD CF-2022-18, dated April 14, 2022, for related information. This Transport Canada AD may be found in the AD docket at regulations.gov under Docket No. FAA-2022-1308.

(2) For more information about this AD, contact Gabriel Kim, Aerospace Engineer, Airframe and Propulsion Section, FAA, New York ACO Branch, 1600 Stewart Avenue, Suite 410, Westbury, NY 11590; telephone 516-228-7300; email 9-avs-nyaco-cos@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 12, 2023.

(i) Airbus Canada Limited Partnership A220 Airworthiness Limitations, BD500-3AB48-11400-02, Issue 014.00, dated February 3, 2022.

(ii) [Reserved]

(4) The following service information was approved for IBR on March 30, 2021 (86 FR 10799, February 23, 2021).

(i) Airbus Canada Limited Partnership A220 Airworthiness Limitations, BD500-3AB48-11400-02, Issue 011.00, dated June 18, 2020.

(ii) [Reserved]

(5) For service information identified in this AD, contact Airbus Canada Limited Partnership, 13100 Henri-Fabre Boulevard, Mirabel, Québec J7N 3C6, Canada; telephone 450-476-7676; email a220_crc@abc.airbus; website a220world.airbus.com.

(6) You may view this service information at the FAA, Airworthiness Products Section, Operational Safety Branch, 2200 South 216th St., Des Moines, WA. For information on the availability of this material at the FAA, call 206-231-3195.

(7) You may view this service information that is incorporated by reference at the National Archives and Records Administration (NARA). For information on the availability of this material at NARA, email fr.inspection@nara.gov, or go to: www.archives.gov/federal-register/cfr/ibr-locations.html.

Issued on March 5, 2023.
Christina Underwood,
Acting Director, Compliance & Airworthiness Division, Aircraft Certification Service.

[FR Doc. 2023-07096 Filed 4-6-23; 8:45 am]

BILLING CODE 4910-13-P